DEPARTMENT OF THE INTERIOR

Bureau of Reclamation

Upper Rio Grande Basin Water Operations Review

AGENCY: Bureau of Reclamation, Interior.

ACTION: Notice of Intent to prepare an Environmental Impact Statement (EIS) for upper Rio Grande basin water operations.

SUMMARY: Pursuant to section 102(2)(C) of the National Environmental Policy Act of 1969, as amended, the Bureau of Reclamation (Reclamation) with and on behalf of other joint-lead agencies [U.S. Army Corps of Engineers (Corps), Department of Defense; and the New Mexico Interstate Stream Commission (Commission), State of New Mexico] intends to prepare an EIS on water operations in the Rio Grande Basin above Fort Quitman, Texas. The preparation of the EIS will be integral to the Upper Rio Grande Basin Water Operations Review (Review). It is anticipated that a plan for water operations at existing Reclamation and Corps facilities will be developed.

DATES: Public scoping meetings will be scheduled at locations throughout the upper Rio Grande basin between June 1 and September 30, 2000. Specific information regarding location and times of these meetings will be published in the Federal Register at least 15 days in advance of the meetings.

The estimated date that the EIS will be completed and released for public review is February 2004.

ADDRESSES: Questions or comments regarding the Review and EIS may be directed to Mr. Chris Gorbach, Bureau of Reclamation, 505 Marquette, NW, Albuquerque, NM 87102-2162. Email: cgorbach@uc.usbr.gov.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

FOR FURTHER INFORMATION CONTACT: Mr. Chris Gorbach, Bureau of Reclamation, telephone (505) 248-5379. Email: cgorbach@uc.usbr.gov.

SUPPLEMENTARY INFORMATION: Under various existing legal authorities, and subject to allocation of supplies and priority of water rights under State law, Reclamation and the Corps operate dams, reservoirs, and other facilities in the upper Rio Grande basin to:

(1) Store and deliver water for agricultural, domestic, municipal, industrial, and environmental uses;

(2) Assist the Commission in meeting downstream water delivery obligations mandated by the Rio Grande Compact;

(3) Provide flood protection and sediment control; and

(4) Comply with existing law, contract obligations, and international treaty.

The Review will be the basis of, and integral to, preparation of the EIS. The purpose of the Review and EIS is to:

(1) Identify flexibilities in operation of Federal reservoirs and facilities in the upper Rio Grande basin that are within existing authorities of Reclamation, the Corps, and the Commission, and in compliance with State and Federal law;

(2) Develop a better understanding of how these facilities could be operated more efficiently and effectively as an integrated system;

(3) Formulate a plan for future water operations at these facilities that is within the existing authorities of Reclamation, the Corps, and the Commission; complies with State, Federal, and other applicable laws and regulations; and assures continued safe dam operations;

(4) Improve processes for making decisions about water operations through better interagency communications and coordination, and facilitation of public review and input; and

(5) Support compliance of the Corps, Reclamation, and the Commission with applicable law and regulations, including, but not limited to, the National Environmental Policy Act and the Endangered Species Act.

The EIS will address water operations at the following facilities with the noted exceptions and limitations.

• Flood control operations at Platoro Reservoir (the Review and EIS will include only flood control operations at Platoro that are under Corps authority. Water supply operations at Platoro are under local control.)

• Closed Basin Division—San Luis Valley Project.

• Heron Dam and Reservoir.

• Abiquiu Dam and Reservoir.

• Cochiti Dam and Reservoir.

• Jemez Canyon Dam and Reservoir.

• Low Flow Conveyance Channel.

• Flood control operations at Elephant Butte Dam and Reservoir (because of current litigation, water supply operations at Elephant Butte will not be included in the Review or EIS).

• Flood control operations at Caballo Dam and Reservoir (because of current litigation, water supply operations at Caballo will not be included in the Review or EIS).

The EIS will present alternatives for exercise of discretionary authority of Reclamation, the Corps, and the Commission with respect to water operations at these facilities and evaluate the environmental, economic, and social effects of these alternatives. Some of the issues to be considered include changing channel capacity criteria at Albuquerque, maintenance or non-maintenance of a sediment pool at Jemez Canyon Dam, storage or non-storage of Rio Grande water in authorized San Juan-Chama space in Abiquiu Reservoir, and operation of the low flow conveyance channel.

Coordination is ongoing with both public and private entities having jurisdiction or an interest in water operations in the upper Rio Grande basin. Fact sheets and briefings were presented at several public forums prior to this Notice. In July 1999 pueblos and tribes, State, Federal, and local agencies were invited to participate in the Review and preparation of the EIS. The Corps, Reclamation, and the Commission, as lead agencies, signed in January 2000 a Memorandum of Agreement to define the scope of the Review and EIS and to establish their roles and responsibilities relating to completing the Review and EIS in accordance with NEPA, the Endangered Species Act, and other laws and regulations. To date, the Pueblo of San Juan, Middle Rio Grande Conservancy District, New Mexico Department of Game and Fish, Colorado State Engineer (as Rio Grande Compact Commissioner), New Mexico Environment Department, and New Mexico Department of Agriculture have responded in writing that they will participate as cooperating agencies. Many others have indicated their interest in participating through the public involvement process or by participating on technical analysis teams. The joint lead agencies will seek and encourage public involvement throughout the project. The responsibilities of Reclamation, the Corps, and Commission include conducting public scoping meetings throughout the basin, EIS comment hearings, and other outreach activities.

The environmental evaluation will assess the potential effects that the proposed water operations alternatives may have on Indian Trust Assets, and minority and low income populations.

Dated: February 22, 2000.
Charles A. Calhoun,
Regional Director, Upper Colorado Region.

[FR Doc. 00-5458 Filed 3-6-00; 8:45 am]

BILLING CODE 4310-94-U